DEPARTMENT OF THE INTERIOR

National Park Service

[NPS-WASO-NAGPRA-NPS0036828; PPWOCRADN0-PCU00RP14.R50000]

Notice of Inventory Completion Amendment: California State University, Los Angeles, CA

AGENCY: National Park Service, Interior.

ACTION: Notice; amendment.

SUMMARY: In accordance with the Native American Graves Protection and Repatriation Act (NAGPRA), California State University, Los Angeles has amended a Notice of Inventory Completion published in the Federal Register on July 21, 2023. This notice amends the number of associated funerary objects in a collection removed from Mariposa County, CA.

DATES: Repatriation of the human remains and associated funerary objects in this notice may occur on or after November 24, 2023.

ADDRESSES: Michele Bleuze, California State University, 5151 State University Drive, Los Angeles, CA 90032, telephone (323) 343-2440, email mbleuze@calstatela.edu and Amira Ainis, California State University, 5151 State University Drive, Los Angeles, CA 90032, telephone (323) 343-2449, email aainis2@calstatela.edu.

SUPPLEMENTARY INFORMATION: This notice is published as part of the National Park Service's administrative responsibilities under NAGPRA. The determinations in this notice are the sole responsibility of the California State University, Los Angeles. The National Park Service is not responsible for the determinations in this notice. Additional information on the amendments and determinations in this notice, including the results of consultation, can be found in the inventory or related records held by California State University, Los Angeles.

Amendment

This notice amends the determinations published in a Notice of Inventory Completion in the Federal Register (88 FR 47164-47165, July 21, 2023). Repatriation of the items in the original Notice of Inventory Completion has not occurred. This notice amends the number of associated funerary objects as listed in the original notice. Upon the rehousing of ancestors at the request of the Tribes, additional associated funerary objects were discovered.

From the Hackney Site (CA-MRP-283), in Mariposa County, CA, the 45 associated funerary objects (no associated funerary objects were previously listed) include nine lots consisting of flaked stone tools, nine lots consisting of lithic chipping debris/debitage, nine lots consisting of ground stone artifacts, six lots consisting of stone ornaments, three lots consisting of worked clay objects, two lots consisting of glass trade beads, two lots consisting of soil samples, one lot consisting of bone tools, one lot consisting of shell beads, one lot consisting of charcoal, one lot consisting of organic (plant) materials, and one lot consisting of faunal and unidentified bone fragments.

Determinations (as Amended)

Pursuant to NAGPRA and its implementing regulations, and after consultation with the appropriate Indian Tribes and Native Hawaiian organizations, California State University, Los Angeles has determined that:

• The human remains represent the physical remains of two individuals of Native American ancestry.

• The 45 associated funerary objects described in this amended notice are reasonably believed to have been placed with or near individual human remains at the time of death or later as part of the death rite or ceremony.

• There is a relationship of shared group identity that can be reasonably traced between the human remains and associated funerary objects described in this notice and the Chicken Ranch Rancheria of Me-Wuk Indians of California; Northfork Rancheria of Mono Indians of California; Picayune Rancheria of Chukchansi Indians of California; Tule River Indian Tribe of the Tule River Reservation, California; and the Tuolumne Band of Me-Wuk Indians of the Tuolumne Rancheria of California.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after November 24, 2023. If competing requests for repatriation are received, California State University, Los Angeles must determine the most appropriate requestor prior to repatriation. Requests for joint repatriation of the human remains and associated funerary objects are considered a single request and not competing requests. California State University, Los Angeles is responsible for sending a copy of this notice to the Indian Tribes identified in this notice.

Authority: Native American Graves Protection and Repatriation Act, 25 U.S.C. 3003, and the implementing regulations, 43 CFR 10.9, § 10.10, § 10.13, and § 10.14.

Dated: October 18, 2023.
Melanie O'Brien,
Manager, National NAGPRA Program.

[FR Doc. 2023-23542 Filed 10-24-23; 8:45 am]

BILLING CODE 4312-52-P